INTERNATIONAL TRADE COMMISSION

[Investigation Nos. 731-TA-1082-1083 (Third Review)]

Chlorinated Isocyanurates From China and Spain

Determinations

On the basis of the record ¹ developed in the subject five-year reviews, the United States International Trade Commission (“Commission”) determines, pursuant to the Tariff Act of 1930 (“the Act”), that revocation of the antidumping duty orders on chlorinated isocyanurates from China and Spain would be likely to lead to continuation or recurrence of material injury to an industry in the United States within a reasonably foreseeable time.²

¹ The record is defined in § 207.2(f) of the Commission's Rules of Practice and Procedure (19 CFR 207.2(f)).

² Chairman David S. Johanson dissenting with respect to the order on chlorinated isocyanurates from Spain. Commissioner Jason E. Kearns not participating.

Background

The Commission instituted these reviews on October 1, 2021 (86 FR 54473) and determined on January 4, 2022 that it would conduct full reviews (87 FR 4290, January 27, 2022). Notice of the scheduling of the Commission's reviews and of a public hearing to be held in connection therewith was given by posting copies of the notice in the Office of the Secretary, U.S. International Trade Commission, Washington, DC, and by publishing the notice in the Federal Register on June 6, 2022 (87 FR 34298). The Commission conducted its hearing on September 29, 2022. All persons who requested the opportunity were permitted to participate.

The Commission made these determinations pursuant to section 751(c) of the Act (19 U.S.C. 1675(c)). It completed and filed its determinations in these reviews on December 20, 2022. The views of the Commission are contained in USITC Publication 5391 (December 2022), entitled Chlorinated Isocyanurates from China and Spain: Investigation Nos. 731-TA-1082-1083 (Third Review).

By order of the Commission.
Issued: December 20, 2022.
Katherine Hiner,
Acting Secretary to the Commission.

[FR Doc. 2022-28093 Filed 12-23-22; 8:45 am]

BILLING CODE 7020-02-P